NUCLEAR REGULATORY COMMISSION

Governors' Designees Receiving Advance Notification of Transportation of Nuclear Waste

On January 6, 1982 (47 FR 596 and 47 FR 600), the U.S. Nuclear Regulatory Commission (NRC) published in the Federal Register final amendments to 10 CFR Parts 71 and 73 (effective July 6, 1982), that require advance notification to Governors or their designees by NRC licensees prior to transportation of certain shipments of nuclear waste and spent fuel. The advance notification covered in Part 73 is for spent nuclear reactor fuel shipments and the notification for Part 71 is for large quantity shipments of radioactive waste (and of spent nuclear reactor fuel not covered under the final amendment to 10 CFR Part 73).

The following list updates the names, addresses, and telephone numbers of those individuals in each State who are responsible for receiving information on nuclear waste shipments. The list will be published annually in the Federal Register on or about June 30, to reflect any changes in information. Current State contact information can also be accessed throughout the year at http://nrc-stp.ornl.gov/special/designee.pdf.

Questions regarding this matter should be directed to Stephen N. Salomon, Office of Federal and State Materials and Environmental Management Programs, U.S. Nuclear Regulatory Commission, Washington, DC 20555, by e-mail at Stephen.Salomon@nrc.gov or by telephone at 301-415-2368.

Dated at Rockville, Maryland this 25th day of June 2008.
For the U.S. Nuclear Regulatory Commission.
Dennis K. Rathbun,
Director, Division of Intergovernmental Liaison and Rulemaking, Office of Federal and State Materials and Environmental Management Programs.

Individuals Receiving Advance Notification of Nuclear Waste Shipments
State | Part 71 | Part 73
Alabama | Colonel J. Christopher Murphy, Director, Alabama Department of Public Safety, 301 Ripley Street, Montgomery, AL 36104, (334) 242-4394, 24 hours: (334) 242-4128 | Same.
Alaska | Douglas H. Dasher, PE, Alaska Monitoring and Assessment Section Manager, 610 University Avenue, Fairbanks, AK 99709, (907) 451-2172, 24 hours: (907) 457-1421 | Same.
Arizona | Aubrey V. Godwin, Director, Arizona Radiation Regulatory Agency, 4814 South 40th Street, Phoenix, AZ 85040, (602) 255-4845, ext. 222, 24 hours: (602) 223-2212 | Same.
Arkansas | Bernard Bevill, Radiation Control Section, Arkansas Department of Health and Human Services, P.O. Box 1437, Mail Slot H-30, Little Rock, AR 72203-1437, (501) 661-2107, 24 hours: (501) 661-2136 | Same.
California | Captain Steve Dowling, California Highway Patrol, Enforcement Services Division, 444 North 3rd St., Suite 310, P.O. Box 942898, Sacramento, CA 94298-0001, (916) 445-1865, 24 hours: 1-(916) 861-1299 | Same.
Colorado | Captain Allan Turner, Hazardous Materials Transport Safety and Response, Colorado State Patrol, Troop 8, 15065 S. Golden Rd., Denver, CO 80401-3990, (303) 273-1910, 24 hours: (303) 239-4501 | Same.
Connecticut | Edward L. Wilds, Jr., Ph.D., Director, Radiation Division, Department of Environmental Protection, 79 Elm Street, 5th floor, Hartford, CT 06106-5127, (860) 424-3029, 24 hours: (860) 424-3333 | Same.
Delaware | David B. Mitchell, J.D., Secretary, Department of Safety & Homeland Security, P.O. Box 818, 303 Transportation Circle, Dover, DE 19903-0818, (302) 744-2680, 24 hours: Cell (302) 222-6590 | Same.
Florida | John Williamson, Environmental Administrator, Bureau of Radiation Control, Environmental Radiation Program, Department of Health, P.O. Box 680069, Orlando, FL 32868-0069, (407) 297-2095, 24 hours: (407) 297-2095 | Same.
Georgia | Captain Bruce Bugg, Special Projects Coordinator, Georgia Department of Public Safety, Motor Carrier Compliance Division, P.O. Box 1456-Atlanta, GA 30371, 959 E. Confederate Avenue, SE, Atlanta, GA 30316, (404) 624-7226, 24 hours: (404) 635-7200 | Same.
Hawaii | Laurence K. Lau, Deputy Director, for Environmental Health, Hawaii State Department of Health, P.O. Box 3378, 1250 Punchbowl Street, Suite 325, Honolulu, HI 96813, (808) 586-4424, 24 hours: (808) 368-6004 Chiyome L. Fukino, M.D., Director of Health, Hawaii State Department of Health, P.O. Box 3378, Honolulu, HI 96813, (808) 586-4424, 24 hours: (808) 368-6004 | Same.
Idaho | Lieutenant William L. Reese, Deputy Commander, Commercial Vehicle Safety, Idaho State Police, P.O. Box 700, Meridian, ID 83680-0700, (208) 884-7220, 24 hours: (208) 846-7500 | Same.
Illinois | Joseph G. Klinger, Assistant Director, Illinois Emergency Management Agency, Division of Nuclear Safety, 1035 Outer Park Drive, 5th Floor, Springfield, IL 62704, (217) 785-9868, 24 hours: (217) 782-7860 | Same.
Indiana | Superintendent Paul Whitesell, Ph.D., Indiana State Police, IGCN, 100 N Senate Avenue, 3rd Floor, Indianapolis, IN 46204, (317) 232-8248 | Same.
Iowa | David L. Miller, Administrator, Iowa Homeland Security and Emergency Management Division, 7105 Northwest 70th Avenue, Camp Dodge, Building W-4, Johnston, IA 50131, (515) 725-3231, 24 hours: (515) 725-3231 | Same.
Kansas | Jennifer Clark, Technological Hazards Section Chief, Department of the Adjutant General, Division of Emergency Management, 2800 SW Topeka Boulevard, Topeka, KS 66611-1287, (785) 274-1394, 24 hours: (785) 296-3176 | Same.
Kentucky | Dewey Crawford, Manager, Radiation Health and Toxic Agents Branch, Cabinet for Health and Family Services, 275 East Main Street, Mail Stop HS-1C-A, Frankfort, KY 40621-0001, (502) 564-3700, ext 3695, 24 hours: (502) 667-1637 | Same.
Louisiana | Captain Dwayne White, Louisiana State Police, 7919 Independence Boulevard, P.O. Box 66614 (#A2621), Baton Rouge, LA 70896-6614, (225) 925-6113, ext. 270, 24 hours: (877) 925-6595 | Same.
Maine | Colonel Pat Fleming, Chief of the State Police, Maine Department of Public Safety, 42 State House Station, Augusta, ME 04333-0042, (207) 624-7200 | Same.
Maryland | Michael Bennett, Director, Electronic Systems Division, Maryland State Police, 1201 Reisterstown Road, Pikesville, MD 21208, (410) 653-4229, 24 hours: (410) 653-4200 | Same.
Massachusetts | Robert J. Walker, Director, Radiation Control Program, Massachusetts Department of Public Health, Shraffts Building, Mezzanine Level, 529 Main Street Suite 1M2A, Charlestown, MA 02129, (617) 242-3035, 24 hours: (617) 242-3453 | Same.
Michigan | Captain Dan Atkinson, Commander, Special Operations Division, Michigan State Police, 4000 Collins Rd, Lansing, MI 48910, (517) 336-6136, 24 hours: (517) 241-8000 | Same.
Minnesota | Kevin C. Leuer, Director, Preparedness Branch, Minnesota Division of Homeland Security & Emergency Management, 444 Cedar Street, Suite 223, St. Paul, MN 55101-6223, (651) 201-7406, 24 hours: (651) 649-5451 or 1-800-422-0798 | Same.
Mississippi | Harrell B. Neal, Program Manager, Mississippi Emergency Management Agency, Office of Preparedness-Plans Bureau, P.O. Box 5644, #1 MEMA Drive 39208, Pearl, MS 39296-6957, (601) 933-6369, 24 hours: (800) 352-9100 | Same.
Missouri | Ronald Reynolds, Director, Emergency Management Agency, P.O. Box 116, 2302 Militia Drive, Jefferson City, MO 65102, (573) 526-9101, 24 hours: (573) 751-2748 | Same.
Montana | Dan McGowan, Administrator, Homeland Security Advisor, Montana Disaster and Emergency Services Division, 56 MT Majo Street, P.O. Box 4789, Fort Harrison, MT 59636-4789, (406) 841-3911, 24 hours: (406) 841-3911 | Same.
Nebraska | Lieutenant Carla Schreiber, Nebraska State Patrol, P.O. Box 94907, Lincoln, NE 68509-4907, (402) 479-4031, 24 hours: (402) 471-4545 | Same.
Nevada | Karen K. Beckley, Supervisor, Radiological Health Section, Bureau of Health Protection Services, Nevada State Health Division, 4150 Technology Way, Suite 300, Carson City, NV 89706, (775) 687-7540, 24 hours: 1-877-438-7231 | Same.
New Hampshire | Sergeant Nathan Boothby, State Police, Troop G, 33 Hazen Drive, Concord, NH 03305, (603) 223-8778, 24 hours: (603) 271-3636 | Same.
New Jersey | Paul Baldauf, Assistant Director, Radiation Protection Programs, Division of Environmental Safety, Health & Analytical Programs, Department of Environmental Protection, P.O. Box 415, Trenton, NJ 08625-0415, (609) 984-5636, 24 hours: (609) 658-3072 | Same.
New Mexico | Don Shainin, Technical Hazards Unit Leader, New Mexico Department of Homeland Security and Emergency Management (DHSEM), P.O. Box 27111, Santa Fe, NM 87502, (505) 476-9628, 24 hours: (505) 476-9635 | Same.
New York | John R. Gibb, Director, New York State Emergency Management Office, 1220 Washington Avenue, Building 22—Suite 101, Albany, NY 12226-2251, (518) 292-2300, 24 hours: (518) 292-2200 | Same.
North Carolina | First Sergeant Joseph A. Cotton, Hazardous Materials Coordinator, North Carolina Highway Patrol, Special Operations, 1142 Southeast Maynard Road, Cary, NC 27511, (919) 319-1523, 24 hours: (919) 733-3861 | Same.
North Dakota | Terry L. O'Clair, Director, Division of Air Quality, North Dakota Department of Health, 918 East Divide Avenue—2nd Floor, Bismarck, ND 58501-1947, (701) 328-5178, 24 hours: (701) 328-9921 | Same.
Ohio | Carol A. O'Claire, Chief, Radiological Branch, Ohio Emergency Management Agency, 2855 West Dublin Granville Road, Columbus, OH 43235-2206, (614) 799-3915, 24 hours: (614) 889-7150 | Same.
Oklahoma | Major Gregory Allen, Oklahoma Department of Public Safety, P.O. Box 11415, Oklahoma City, OK 73136-0145, (405) 425-7701, 24 hours: (405) 425-2323 | Same.
Oregon | Ken Niles, Assistant Director, Nuclear Safety & Energy Siting Division, Oregon Department of Energy, 625 Marion Street, NE, Salem, OR 97301-3737, (503) 378-4906, 24 hours: (503) 370-3500 | Same.
Pennsylvania | Scott Forster, State Emergency Operations Coordinator, Director of Operations and Training, Pennsylvania Emergency Management Agency, 2605 Interstate Drive, Harrisburg, PA 17110-3321, (717) 651-2001, 24 hours: (717) 651-2001 | Same.
Rhode Island | Terrence Mercer, Associate Administrator, Motor Carriers Section, Division of Public Utilities and Carriers, 89 Jefferson Boulevard, Warwick, RI 02888, (401) 941-4500, Ext. 150, 24 hours: (401) 444-1183 (State Police) | Same.
South Carolina | Susan Jenkins, Bureau of Land and Waste Management, Department of Health & Environmental Control, 2600 Bull Street, Columbia, SC 29201, (803) 896-4181, 24 hours: (803) 667-0019 | Same.
South Dakota | Kristi Turman, Director of Operations, Office of Emergency Management Agency, 118 W. Capitol Avenue, Pierre, SD 57501-2000, (605) 773-3231 | Same.
Tennessee | Elgan Usrey, Assistant Director, Preparedness, Tennessee Emergency Management Agency, 3041 Sidco Drive, Nashville, TN 37204-1502, (615) 741-2879, 24 hours: (615) 741-0001 | Same.
Texas | Richard A. Ratliff, P.E. L.M.P., Radiation Safety Licensing Branch Manager, Division for Regulatory Services, Texas Department of State Health Services, Mail Code 2835, PO Box 149347, Austin, TX 78714-9347, (512) 834-6679, 24 hours: (512) 458-7460 | Colonel Thomas A. Davis, Director, Texas Department of Public Safety, Attn: Technological Hazards Group, P.O. Box 4087, Austin, TX 78773-0223, (512) 424-7771, Fax: (512) 424-5708, 24 hours: (512) 424-2208.
Utah | Dane Finerfrock, Director, Division of Radiation Control, Department of Environmental Quality, 168 North 1950 West, P.O. Box 144850, Salt Lake City, UT 84114-4850, (801) 536-4257, After hours: (801) 536-4123 | Same.
Vermont | Thomas R. Tremblay, Commissioner, Department of Public Safety, Division of State Police, 103 South Main Street, Waterbury, VT 05671-2101, (802) 844-8718, 24 hours: (802) 244-8727 | Same.
Virginia | Brett A. Burdick, Director, Technological Hazards Division, Virginia Department of Emergency Management, 10501 Trade Court, Richmond, VA 23236, (804) 897-6500, ext. 6569, 24 hours: (804) 674-2400 | Same.
Washington | Paul Perz, Washington State Patrol, Fire Protection Bureau, P.O. Box 42600, Olympia, WA 98504-2600, (360) 596-3919, 24 hours: 1-800-409-4755 | Same.
West Virginia | Colonel D. L. Lemmon, Superintendent, West Virginia State Police, 725 Jefferson Road, South Charleston, WV 25309, (304) 746-2111, 24 hours: (301) 746-2158 | Same.
Wisconsin | Johnnie L. Smith, Administrator, Wisconsin Emergency Management, P.O. Box 7865, Madison, WI 53707-7865, 608-242-3210, 24 hour: (608) 242-3232 | Same.
Wyoming | Captain Vernon Poage, Support Services Officer, Commercial Carriers, Wyoming Highway Patrol, 5300 Bishop Boulevard, Cheyenne, WY 82009-3340, (307) 777-4312, 24 hours: (307) 777-4321 | Same.
District of Columbia | Gregory B. Talley, Program Manager, Radiation Protection Division, Health, Regulation & Licensing Administration, Department of Health, 717 14th Street, NE, Room 639, Washington, DC 20005, (202) 741-7686, 24 hours: (202) 727-1000 | Same.
Puerto Rico | Dr. Rosa Perez-Perdomo, Secretary of Health, P.O. Box 70184, San Juan, PR 00936-8184, (787) 765-2929, ext. 3377, 24 hours: (787) 765-2929, ext. 3377 | Same.
Guam | Lorilee T. Crisostomo, Administrator, Guam Environmental Protection Agency, P.O. Box 22439, Barrigada, Guam 96921, (671) 475-1658, Fax: (671) 477-9402, 24 hours: (671) 635-9500 | Same.
Virgin Islands | Robert S. Mathes, Commissioner, Department of Planning and Natural Resources, 8100 Linberg Bay, Ste #61, St. Thomas, Virgin Islands 00802, (340) 774-3320, 24 hours: (340) 774-5138 | Same.
American Samoa | Pati Faiai, Government Ecologist, American Samoa Environmental Protection Agency, Office of the Governor, Pago Pago, American Samoa 96799, (684) 633-2304, 24 hours: (684) 622-7106 | Same.
Commonwealth of the Northern Mariana Islands | Dr. Ignacio T. dela Cruz, D.V.M. Secretary, Department of Lands & Natural Resources Commonwealth of Northern Mariana Islands, Caller Box 10007, Saipan, MP 96950, (670) 322-9830; 322-5017 | Same.

[FR Doc. E8-14860 Filed 6-30-08; 8:45 am]

BILLING CODE 7590-01-P